Proclamation 7519 of January 18, 2002

National Mentoring Month, 2002

By the President of the United States of America

A Proclamation

National Mentoring Month allows us to recognize the important contributions made by the millions of our fellow citizens who choose to strengthen our Nation by giving their time, effort, and heart to serve as a mentor and role model for a young person. Through quality education programs, community initiatives, and personal involvement, mentors help our children become better citizens by showing them how to make the right choices, to work hard, and to care for their neighbors in need. Mentors play an important role in a child's life, particularly if a parent is absent. A mentor's involvement in the life of a child can brighten that child's future, help maintain healthy families, and help promote more vibrant communities.

Community mentoring programs have given millions of young people, particularly those at high-risk for poor school performance and behavior problems, a boost in life. Statistics indicate that most children who have been mentored improve their school attendance and performance, go to college, and are less likely to use drugs or alcohol. By being a positive role model, a mentor can demonstrate the blessings of living a virtuous life by sharing their values and experiences and motivating a child to learn and achieve. We must teach our children the difference between right and wrong; and we must seize every opportunity to help a young person find the right path. We must also teach discipline and accountability.

Many adults recall lessons they learned from childhood as a result of observing and interacting with role models. They recognize their childhood homes and schools as places where love, encouragement, and instruction provided them with the tools they needed to become contributing citizens. Today, the role of families, schools, and communities remains crucial to providing stability and direction to America's young people.

My Administration strongly supports Federal, State, and local programs that help families stay together, keep both parents involved in their child's life, and utilize our education system to stand by parents and reinforce the values that are taught in the home. I am particularly pleased that the Congress passed and I have signed into law legislation I proposed to strengthen and expand successful mentoring initiatives aimed at serving a vulnerable population: children whose parents are incarcerated. This new initiative—“Promoting Safe and Stable Families Amendments of 2001”—represents the first comprehensive Federal effort to improve the lives of these children. This important legislation will help surround vulnerable youth with positive, one-on-one role models, and help them not just dream big dreams, but achieve them.

On the occasion of National Mentoring Month, we pay tribute to the parents, teachers, community leaders, and citizens who serve as mentors and role models for our children. We encourage others to become involved in mentoring.

NOW, THEREFORE, I, GEORGE W. BUSH, President of the United States of America, by virtue of the authority vested in me by the Constitution and laws of the United States, do hereby proclaim January 2002 as National Mentoring Month. I call upon the people of the United States to recognize the importance of being role models for our youth, to look for mentoring opportunities in their communities, and to celebrate this month with appropriate ceremonies, activities, and programs.

IN WITNESS WHEREOF, I have hereunto set my hand this eighteenth day of January, in the year of our Lord two thousand two, and of the Independence of the United States of America the two hundred and twenty-sixth.

B

[FR Doc. 02-1970

Filed 1-23-02; 8:45 am]

Billing code 3195-01-P